DEPARTMENT OF HOMELAND SECURITY

Coast Guard

33 CFR Part 165

[Docket Number USCG-2015-0886]

RIN 1625-AA00

Safety Zone; West Larose Vertical Lift Bridge; Houma, LA

AGENCY: Coast Guard, DHS.

ACTION: Temporary final rule.

SUMMARY: The Coast Guard is establishing a temporary safety zone extending 400 yards east and west of the West Larose Vertical Lift Bridge in Bayou Lafourche, LA. This safety zone is necessary to protect persons, property, and infrastructure from potential damage and safety hazards associated with construction work on the bridge. During the periods of enforcement, entry into and transiting or anchoring within this safety zone is prohibited unless specifically authorized by Captain of the Port (COTP) Morgan City or other designated representative.

DATES: This rule is effective without actual notice from October 1, 2015 through 3 p.m. on October 2, 2015. For the purposes of enforcement, actual notice will be used from 6 a.m. to 8 a.m. and from 1 p.m. to 3 p.m. on September 28, 2015, until October 1, 2015.

ADDRESSES: Documents mentioned in this preamble are part of docket [USCG-2015-0886]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Lieutenant Junior Grade Vanessa Taylor, Chief of Waterways Management, U.S. Coast Guard MSU Morgan City 800 David Dr, Morgan City LA,70380; telephone (985) 380-5334, email Vanessa.R.Taylor@uscg.mil. If you have questions on viewing or submitting material to the docket, call Cheryl Collins, Program Manager, Docket Operations, telephone 1-800-647-5527.

SUPPLEMENTARY INFORMATION:

Table of Acronyms

DHS Department of Homeland Security

FR Federal Register

NPRM Notice of Proposed Rulemaking

MSU Marine Safety Unit

A. Regulatory History and Information

The Coast Guard is issuing this final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because doing so would be impracticable, unnecessary, and contrary to the public interest. An NPRM is impracticable and contrary to the public interest because the Coast Guard was only notified of the construction on September 08, 2015 and the work is scheduled to occur from September 28, 2015 through October 2, 2015. Providing a full NPRM process would delay the effectiveness the temporary safety zone until after the bridge construction project has been completed and immediate action is needed to protect vessels and the public from the safety hazards associated with bridge construction over a public waterway. Furthermore, an NPRM is unnecessary because the Coast Guard will inform the public through Broadcast Notice to Mariners, Local Notice to Mariners, and/or Safety Marine Information Broadcasts of the enforcement period for the safety zone as well as any changes in the planned and published dates and times of enforcement.

For the same reasons, under 5 U.S.C. 553(d)(3), the Coast Guard finds that good cause exists for making this rule effective less than 30 days after publication in the Federal Register. Delaying the effectiveness of the rule is impracticable and contrary to the public interest because the Coast Guard was only notified of the construction on September 08, 2015 and the work is scheduled to occur from September 28, 2015 through October 02, 2015. Waiting to apply the rule until it has been published for 30 days would delay the effectiveness the temporary safety zone until after the bridge construction project has been completed and immediate action is needed to protect vessels and the public from the safety hazards associated with bridge construction over a public waterway. Additionally, the Coast Guard will inform the public through Broadcast Notice to Mariners, Local Notice to Mariners, and/or Safety Marine Information Broadcasts of the enforcement period for the safety zone as well as any changes in the planned and published dates and times of enforcement.

B. Basis and Purpose

The legal basis and authorities for this rule are found in 33 U.S.C. 1231; 50 U.S.C. 191; 33 CFR 1.05-1, 6.04-1, 6.04-6, and 160.5; Department of Homeland Security Delegation no. 0170.1, which collectively authorize the Coast Guard to establish and define safety zones.

The purpose of the rule is to establish the necessary temporary safety zone to provide protection for persons and property, including commercial and recreational vessels that may be in the area during the bridge construction project from the hazards associated with the project.

C. Discussion of the Final Rule

The Coast Guard is establishing a temporary safety zone for all waters in Bayou Lafourche extending 400 yards to the east and west of the West Larose Vertical Lift Bridge located at position 29°34′142″ N, 090°23′109″ W in Bayou Lafourche, LA from 6 a.m. to 8 a.m. and 1 p.m. to 3 p.m. on September 28, 2015 through October 2, 2015. This temporary safety zone will be enforced with actual notice from 6 a.m. to 8 a.m. and 1 p.m. to 3 p.m. on September 28, 2015 through October 2, 2015.

Entry into, transiting or anchoring within the safety zone is prohibited unless authorized by the Captain of the Port or his designated on-scene representative. The Captain of the Port or his designated on-scene representative may be contacted via VHF Channel 16.

D. Regulatory Analyses

We developed this rule after considering numerous statutes and executive orders related to rulemaking. Below we summarize our analyses based on 13 of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

We conclude that this rule is not a significant regulatory action because we anticipate that it will have minimal impact on the economy, will not interfere with other agencies, will not adversely alter the budget of any grant or loan recipients, and will not raise any novel legal or policy issues. The safety zone created by this rule will be relatively small and enforced over two days. Under certain conditions, moreover, vessels may still transit through the safety zone when permitted by the Captain of the Port.

2. Impact on Small Entities

The Regulatory Flexibility Act of 1980 (RFA), 5 U.S.C. 601-612, as amended, requires federal agencies to consider the potential impact of regulations on small entities during rulemaking. The Coast Guard certifies under 5 U.S.C. 605(b) that this rule will not have a significant economic impact on a substantial number of small entities. Under the Regulatory Flexibility Act (5 U.S.C. 601-612), we have considered the impact of this temporary rule on small entities. This rule would affect the following entities, some of which might be small entities: The owners or operators of recreational vessels intending to transit or anchor in a portion of Bayou Lafourche, LA from 6 a.m. to 8 a.m. and 1 p.m. to 3 p.m. on September 28, 2015 through October 2, 2015.

3. Collection of Information

This rule will not call for a new collection of information under the Paperwork Reduction Act of 1995 (44 U.S.C. 3501-3520).

4. Federalism

A rule has implications for federalism under Executive Order 13132, Federalism, if it has a substantial direct effect on the States, on the relationship between the national government and the States, or on the distribution of power and responsibilities among the various levels of government. We have analyzed this rule under that Order and determined that this rule does not have implications for federalism.

5. Protest Activities

The Coast Guard respects the First Amendment rights of protesters. Protesters are asked to contact the person listed in the FOR FURTHER INFORMATION CONTACT section to coordinate protest activities so that your message can be received without jeopardizing the safety or security of people, places or vessels.

6. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

7. Taking of Private Property

This rule will not cause a taking of private property or otherwise have taking implications under Executive Order 12630, Governmental Actions and Interference with Constitutionally Protected Property Rights.

8. Civil Justice Reform

This rule meets applicable standards in sections 3(a) and 3(b)(2) of Executive Order 12988, Civil Justice Reform, to minimize litigation, eliminate ambiguity, and reduce burden.

9. Protection of Children

We have analyzed this rule under Executive Order 13045, Protection or Children from Environmental Health Risks and Safety Risks. This rule is not an economically significant rule and does not create an environmental risk to health or risk to safety that may disproportionately affect children.

10. Indian Tribal Governments

This rule does not have tribal implications under Executive Order 13175, Consultation and Coordination with Indian Tribal Governments, because it does not have substantial direct effect on one or more Indian tribes, on the relationship between the Federal Government and Indian tribes, or on the distribution or power and responsibilities between the Federal Government and Indian tribes.

11. Energy Effects

This action is not a “significant energy action” under Executive Order 13211, Actions Concerning Regulations That Significantly Affect Energy Supply, Distribution or Use.

12. Technical Standards

This rule does not use technical standards. Therefore, we did not consider the use of voluntary consensus standards.

13. Environment

We have analyzed this rule under Department of Homeland Security Management Directive 023-01 and Commandant Instruction M16475.1D, which guide the Coast Guard in complying with the National Environmental Policy Act of 1969 (NEPA) (42 U.S.C. 4321-4370f), and have determined that this action is one of a category of actions that do not individually or cumulatively have a significant effect on the human environment. This rule involves establishing a safety zone. This rule is categorically excluded from further review under paragraph 34(g) of Figure 2-1 of the Commandant Instruction. An environmental analysis checklist supporting this determination and a Categorical Exclusions Determination are available in the docket where indicated under ADDRESSES. We seek any comments or information that may lead to the discovery of a significant environmental impact from this rule.

List of Subjects in 33 CFR Part 165

Harbors, Marine Safety, Navigation (waters), Reporting and recordkeeping requirements, Security measures, Waterways.

For the reasons discussed in the preamble, the Coast Guard amends 33 CFR part 165 as follows:

PART 165—REGULATED NAVIGATION AREAS AND LIMITED ACCESS AREAS

1. The authority citation for Part 165 continues to read as follows:

Authority: 33 U.S.C. 1231; 50 U.S.C. 191; 33 CFR 1.05-1, 6.04-1, 6.04-6, and 160.5; Department of Homeland Security Delegation No. 0170.1.

2. A new temporary § 165.T08-0886 is added to read as follows:

§ 165.T08-0886 Safety Zone; West Larose Vertical Lift Bridge; Houma, LA.

(a) Location. All waters of Bayou Lafourche within 400yds to the east and west of the West Larose Vertical Lift bridge in position 29°34′142″ N., 090°23′109″ W.

(b) Effective and Enforcement Period. This rule is effective from 6 a.m. to 8 a.m. and from 1 p.m. to 3 p.m. on September 28, 2015 through October 2, 2015. This rule will be enforced with actual notice from 6 a.m. to 8 a.m. and from 1 p.m. to 3 p.m. on September 28, 2015 through October 2, 2015.

(c) Regulations. (1) In accordance with the general regulations in § 165.23 of this part, entry into, transiting, or anchoring within this safety zone is prohibited unless authorized by the Captain of the Port Morgan City, or his designated on-scene representative.

(2) The “on-scene representative” of the Captain of the Port is any Coast Guard commissioned, warrant, or petty officer who has been designated by the Captain of the Port to act on his behalf. The on-scene representative of the Captain of the Port will be aboard either a Coast Guard or Coast Guard Auxiliary vessel. The Captain of the Port or his designated on-scene representative may be contacted via VHF Channel 16.

(3) Vessel operators desiring to enter or operate within the safety zone shall contact the Captain of the Port Morgan City or his on-scene representative to obtain permission to do so. Vessel operators given permission to enter or operate in the safety zone must comply with all directions given to them by the Captain of the Port Morgan City or his on-scene representative.

(d) Informational Broadcasts. The COTP Morgan City or a designated representative will inform the public through Broadcast Notice to Mariners, Local Notice to Mariners, and/or Safety Marine Information Broadcasts of the enforcement period for the safety zone as well as any changes in the planned and published dates and times of enforcement.

Dated: September 10, 2015.
F.L. Gilmore,
Captain, U.S. Coast Guard, Acting Captain of the Port Morgan City, LA.

[FR Doc. 2015-24827 Filed 9-30-15; 8:45 am]

BILLING CODE 9110-04-P